DEPARTMENT OF LABOR

Office of the Secretary

Agency Information Collection Activities; Submission for OMB Emergency Review: Comment Request, Guam Military Base Realignment Contractors Recruitment Standards

ACTION: Notice.

SUMMARY: The U.S. Department of Labor (DOL) has submitted the Employment and Training Administration (ETA) sponsored information collection request (ICR) titled, “Guam Military Base Realignment Contractors Recruitment Standards,” to the Office of Management and Budget (OMB) for review and clearance utilizing emergency review procedures in accordance with the Paperwork Reduction Act of 1995 (Pub. L. 104-13, 44 U.S.C. chapter 35) and 5 CFR 1320.13. OMB approval has been requested by October 19, 2011.

DATES: Submit comments on or before October 19, 2011.

ADDRESSES: A copy of this ICR, with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an e-mail to DOL_PRA_PUBLIC@dol.gov.

Submit comments about this request to the Office of Information and Regulatory Affairs, Attn: OMB Desk Officer for the Department of Labor, Employment and Training Administration, Office of Management and Budget, Room 10235, Washington, DC 20503, Telephone: 202-395-6929/Fax: 202-395-6881 (these are not toll-free numbers), e-mail: OIRA_submission@omb.eop.gov.

FOR FURTHER INFORMATION CONTACT: Michel Smyth by telephone at 202-693-4129 (this is not a toll-free number) or by e-mail at DOL_PRA_PUBLIC@dol.gov.

SUPPLEMENTARY INFORMATION: Background: Section 2834(a) of the National Defense Authorization Act (NDAA) for Fiscal Year 2010 (Pub. L. 111-84, enacted October 28, 2009) amended Section 2824(c) of the Military Construction Authorization Act (Pub. L. 110-417, Division B) by adding a new subsection (6). This provision prohibits contractors engaged in construction projects related to the realignment of U.S. military forces from Okinawa to Guam from hiring non-U.S. workers unless the Governor of Guam (Governor), in consultation with the Secretary of Labor (Secretary), certifies that: (1) There is an insufficient number of U.S. workers that are able, willing, and qualified to perform the work; and (2) that the employment of non-U.S. workers will not have an adverse effect on either the wages or the working conditions of U.S. construction workers in Guam.

In order to allow the Governor to make this certification, the NDAA requires contractors to recruit workers in the United States, including in Guam, the Northern Mariana Islands, American Samoa, the U.S. Virgin Islands, and Puerto Rico, according to the terms of a recruitment plan developed and approved by the Secretary. That recruitment plan has been reproduced in full below.

While the DOL has developed the recruitment plan, it has delegated its duty to oversee contractor recruitment and consult with the Governor to the Guam Department of Labor (GDOL).

Recruitment Plan: Guam military base realignment contractors must take the following actions to recruit U.S. workers:

1. At least 60 days prior to the start date of workers under a base realignment contract, contractors shall:

a. Submit a job posting with GDOL at http://dol.guam.gov/index.php?option=com_jobline&Itemid=0&task=add or by submitting a completed Job Order (Form GES 514) in person at the Guam Employment Service office. The job posting must be posted on the GDOL Job Bank for at least 21 consecutive days;

b. Post the job opportunity with the state workforce agency's Internet job bank in American Samoa at (http://www.usworks.com/americansamoa/), the Commonwealth of the Northern Mariana Islands at https://marianaslabor.net/employer.asp, and in the following states:

i. Alaska (http://www.jobs.state.ak.us);

ii. California (http://www.caljobs.ca.gov);

iii. Hawaii (http://www.hirenethawaii.com);

iv. Oregon (http://www.emp.state.or.us/jobs); and

v. Washington (https://fortress.wa.gov/esd/worksource/Employment.aspx).

The job listing must be posted for at least 21 consecutive days. If for any reason the Internet job bank in American Samoa is not available, the contractor must place an advertisement on two Sundays in a newspaper that is; (1) Of general circulation in that state or territory, (2) has a reasonable distribution and is appropriate to the occupation, and (3) that workers likely to apply for construction jobs will have the opportunity to see the job listing.

c. Post the job opportunity with an Internet-based job bank that is;

i. National in scope, including the entire United States, Guam, the Commonwealth of the Northern Mariana Islands, American Samoa, the Virgin Islands, and the Commonwealth of Puerto Rico,

ii. Allows job postings for all occupations, and is

iii. Free of charge for job seekers and their intermediaries in One-Stop Career Centers and the U.S. employment service delivery system nationwide.

d. Where the occupation or industry is customarily unionized, contact the local union in Guam in writing to seek U.S. workers who are qualified and who will be available for the job opportunity.

2. The job postings in (1)(a) through (c) must include, at a minimum:

(a) The contractor's name and appropriate contact information for applicants to inquire about the job opportunity or to send applications and/or résumés directly to the employer;

(b) The geographic area of employment with enough specificity to apprise applicants of any travel requirements and where applicants will likely have to reside to perform the services or labor;

(c) If applicable, a statement that the worker's transportation to Guam will be paid for by the employer;

(d) If applicable, a statement that daily transportation to and from the worksite(s) will be provided by the employer;

(e) A description of the job opportunity with sufficient information to apprise U.S. workers of services or labor to be performed, including the duties, the minimum education and experience requirements, the work hours and days, and the anticipated start and end dates of the job opportunity;

(f) If applicable, a statement that on-the-job training will be provided to the worker;

(g) If applicable, a statement that overtime will be available to the worker and the wage offer for working any overtime hours;

(h) The wage offer, and, if applicable, any other benefits offered; and

(i) A statement that the position is temporary and the total number of job openings the employer intends to fill.

(j) If the employer provides the worker with the option of board, lodging, or other facilities, including fringe benefits, or intends to assist workers to secure such lodging, a statement disclosing the provision and cost of the board, lodging, or other facilities, including fringe benefits or assistance to be provided.

The postings are separate and distinct requirements, i.e., a posting under Section 1(b) cannot be used to satisfy the posting requirement under Section 1(c).

3. During the minimum 21-day recruitment period, contractors shall interview all qualified and available Guam and U.S. construction workers who have applied for the employment opportunity.

4. After the close of the recruitment period (not fewer than 32 days before the start date of workers under a contract), for each job listing, the contractor shall provide a report including the following information via e-mail to GDOL at ndaa.recruitment@dol.guam.gov documenting efforts to recruit U.S. workers from the United States and all U.S. territories, including:

a. A description of all the recruitment approaches used to recruit realignment workers. The description must include identification of the Internet job bank where the posting occurred, the occupation or trade, a description of wages and other terms and conditions of employment, the date of posting and the job order or requisition number. If newspaper advertisements were used, the description must also include the dates that these ads appeared in the newspaper;

b. A copy of each job posting;

c. A detailed description of how each response to the job postings were handled including;

i. The number of job applications received,

ii. The name of the applicants,

iii. The position applied for,

iv. The final employment determination for each applicant or job candidate, and

v. For each U.S. job applicant not hired, a description of the specific reason for rejecting the applicant for employment, which includes a comparison of the job applicant's skills and experience against the terms listed in the original job posting.

DOL Recruitment Support Activities: ETA will facilitate a nationwide outreach and recruitment effort to maximize hiring of U.S. construction workers, including outreach to the workforce investment system. ETA will do the following:

• Develop and issue a Training and Employment Notice to inform state workforce agencies, state and local workforce investment boards, and One-Stop Career Centers of the anticipated construction employment opportunities on Guam and how those opportunities will be posted;

• Develop telephone scripts for a Toll-Free Help Line directing job seekers to the GDOL job bank;

• Hold a Webinar that will invite participation by the leadership of the GDOL, the Guam Alien Labor Certification Processing Center, the Department of Homeland Security and the Department of Defense (including the Naval Facilities Engineering Command, the Joint Guam Program Office, and the Office of Economic Adjustment) to describe the protocol and procedures for Department of Defense contractors to submit job opportunities and for job seekers to apply for base build-up employment;

• Ensure that DOL offices, including the Office of Unemployment Insurance, the Office of Apprenticeship, Job Corps, Veterans' Employment and Training Services, and the YouthBuild program, are informed of the construction employment opportunities; and

• Brief pertinent inter-governmental and labor organizations (including the building trades unions) so that they can assist in spreading information about the U.S. worker outreach effort.

Effect of OMB Approval: This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6.

Public Participation: Interested parties are encouraged to send comments to the OMB, Office of Information and Regulatory Affairs at the address shown in the ADDRESSES section. In order to ensure appropriate consideration, comments should reference OMB ICR Reference Number 201108-1205-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: New collection of information (Request for new Control Number).

Agency: Office of the Secretary.

Title of Collection: Repurposed Auto Manufacturing Facilities Study.

Requested Duration of Authorization: Six months from approval.

OMB ICR Reference Number: 201108-1205-001.

Frequency of Collection: On Occasion.

Affected Public: State, Local, and Tribal governments.

Estimated Time per Response: 20 minutes.

Total Estimated Number of Respondents: 25.

Total Estimated Number of Responses: 999.

Total Estimated Annual Burden Hours: 130.

Total Annualized Capital and Startup Costs: $0.

Total Annualized Operation and Maintenance Costs: $0.

Dated: September 19, 2011.
Michel Smyth,
Departmental Clearance Office.

[FR Doc. 2011-24483 Filed 9-22-11; 8:45 am]

BILLING CODE 4510-FN-P